DEPARTMENT OF THE INTERIOR

Notice of Availability of a Final General Management Plan Amendment/Environmental Impact Statement for Dry Tortugas National Park, Monroe County, FL

AGENCY: National Park Service, Interior.

ACTION: Notice of Availability of a Final General Management Plan Amendment/Environmental Impact Statement for Dry Tortugas National Park, Monroe County, Florida.

SUMMARY: The National Park Service has prepared a Final General Management Plan Amendment/Environmental Impact Statement (GMPA/EIS) that evaluates long-term management alternatives for Dry Tortugas National Park. Consistent with the park's purpose, significance, and mission goals, five alternatives were evaluated for guiding the management of the park over the next 15 to 20 years. The alternatives incorporate various zoning applications and other management provisions to ensure resource protection and quality visitor experience conditions. The environmental consequences anticipated from implementation of the various alternatives are addressed in the document. Impact topics include natural and cultural resources, visitor experience, socioeconomic environment, and park operations/facilities.

DATES: The document will be available for review for 30 days from the publication of a notice by the Environmental Protection Agency in the Federal Register. After the 30-day review period, a Record of Decision will be signed that will document NPS approval of the final Dry Tortugas GMPA/EIS, and identify the selected alternative for implementation.

ADDRESSES: The final Dry Tortugas GMPA/EIS will be mailed to agencies, organizations, and individuals on the park's mailing list. Public reading copies of the document will also be available for review at the following locations:

• Everglades National Park—Headquarters, 40001 State Road 9336, Homestead, FL

• Offices of the Florida Keys National Marine Sanctuary: 216 Ann Street, Key West, FL, 5550 Overseas Highway, Marathon, FL, 95200 Overseas Highway, Key Largo, FL

• Miami-Dade Public Library Branches: 700 N. Homestead Blvd., Homestead, FL, 101 West Flagler St., Miami, FL, 10750 SW 211th St., Miami, FL

• Monroe County Public Library Branches: 700 Fleming St., Key West, FL, 3251 Overseas Highway, Marathon, FL, Mile Marker 81.5, Islamorada, FL, Mile Marker 100, Key Largo, FL

• Collier County Public Library, 650 Central Avenue, Naples, FL

• St. Petersburg Public Library, 3745 9th Ave. North, St. Petersburg, FL

In addition, the document will be posted on the Dry Tortugas National Park Webpage (www.nps.gov/drto/planning). A limited number of printed copies will be available from the Superintendent on request.

FOR FURTHER INFORMATION CONTACT: Maureen Finnerty, Superintendent, Everglades and Dry Tortugas National Parks, 40001 State Road 9336, Homestead, FL 33034-6733.

SUPPLEMENTARY INFORMATION: The following management alternatives were evaluated in the GMPA/EIS:

Alternative A—As the no-action alternative, this alternative represents a continuation of current management policies and operations. The park would attempt to accommodate increasing visitor use while protecting resources to the extent allowable under current policy and legal requirements.

Alternative B—Under this alternative, visitors would be free to travel throughout much of the park and have a variety of recreational experiences. However, the park would more closely manage the types and levels of acceptable visitor use to provide greater protection of park resources and to ensure quality visitor experiences. Greater emphasis would be placed on measures to monitor resource conditions and to implement appropriate protection/remedial actions as necessary.

Alternative C (proposed action)—In addition to the provisions of Alternative B, this alternative calls for the application of a research natural area zone (covering about one half of the park) in which no fishing would be allowed, the implementation of a visitor permitting system, and increased reliance on commercial service providers to direct and structure visitor use. These measures would be anticipated to further enhance resource protection and visitor experience objectives.

Alternative D—Provisions of this alternative are similar to those of Alternative C, with the further restrictions that only commercial tour operators providing public tours would be allowed in the research natural area zone. Private boaters would be required to obtain a permit to boat or engage in other park-allowed activities outside of the research natural area zone. As under Alternative C, the research natural area zone would cover approximately half of the park, although its spatial configuration would be different. Visitor experiences would be highly structured, but diverse opportunities for recreational activities would remain available.

Alternative E—This alternative places primary emphasis on resource protection and conservation with the majority of the park zoned a research natural area. Visitation would be strictly managed throughout most of the park to reduce or avoid impacts on the fragile resource base.

Planning for the Dry Tortugas GMPA/EIS was coordinated with concurrent planning for the Florida Keys National Marine Sanctuary, administered by the National Oceanic and Atmospheric Administration. The latter plan proposes a no-take ecological reserve within the remote westernmost portion of the marine sanctuary.

Our practice is to make comments, including names and home addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

Dated: January 9, 2001.
W. Thomas Brown,
Regional Director, Southeast Regional Office, National Park Service.

[FR Doc. 01-1576 Filed 1-19-01; 8:45 am]

BILLING CODE 4310-10-M